COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List products and services to be furnished by nonprofit agencies employing persons who are blind or have other severe disabilities.

EFFECTIVE DATE: August 10, 2003.

ADDRESS: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: On March 7, March 28, April 18, April 25, May 2, and May 9, 2003, the Committee for Purchase From People Who Are Blind or Severely Disabled published notice (68 F.R. 11036, 15150, 19188, 20371, 23441, and 24919) of proposed additions to the Procurement List. After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

(End of Certification)

Accordingly, the following products and services are added to the Procurement List:

Products

Product/NSN: Blue & White Finishing Mops, 7920-00-NIB-0407 (Medium), 7920-00-NIB-0408 (Large).

NPA: New York City Industries for the Blind, Inc., Brooklyn, New York.

Contract Activity: Office Supplies & Paper Products Acquisition Center, New York, New York.

Product/NSN: U.S. Air Force Technical Manual Binder, 7510-00-241-4958.

NPA: York County Blind Center, York, Pennsylvania.

Contract Activity: Office Supplies & Paper Products Acquisition Center, New York, New York.

Services

Service Type/Location: Base Supply Center & Individual Equipment Element, Air Force Flight Test Center (AFFTC), Edwards AFB, California.

NPA: Industries for the Blind, Inc., Milwaukee, Wisconsin.

Contract Activity: 95th MSG/LGRQ, Edwards AFB, California.

Service Type/Location: Base Supply Center & Individual Equipment Element, Buckley Air Force Base, Colorado.

NPA: Envision, Inc., Wichita, Kansas.

Contract Activity: 460th Air Base Wing, Buckley AFB, Colorado.

Service Type/Location: Custodial Services, Overton Corners Border Station, Champlain, New York.

NPA: Clinton County Chapter, NYSARC, Inc., Plattsburgh, New York.

Contract Activity: GSA/PBS Upstate New York Service Center, Syracuse, New York.

Service Type/Location: Food Service, Michigan Army National Guard, Maneuver Training Center, Camp Grayling, Michigan.

NPA: G.W. Services of Northern Michigan, Inc., Traverse City, Michigan.

Contract Activity: U.S. Property and Fiscal Officer for Michigan, Lansing, Michigan.

Service Type/Location: Grounds Maintenance, U.S. Border Station, Old Champlain, New York.

NPA: Clinton County Chapter, NYSARC, Inc., Plattsburgh, New York.

Contract Activity: GSA/PBS Upstate New York Service Center, Syracuse, New York.

Service Type/Location: Grounds Maintenance, U.S. Border Station, Overton Corners, New York.

NPA: Clinton County Chapter, NYSARC, Inc., Plattsburgh, New York.

Contract Activity: GSA/PBS Upstate New York Service Center, Syracuse, New York.

Service Type/Location: Janitorial/Custodial, Abingdon Memorial USARC, Abingdon, Virginia.

NPA: Highlands Community Services Board, Bristol, Virginia.

Contract Activity: 99th Regional Support Command, Coraopolis, Pennsylvania.

Service Type/Location: Janitorial/Custodial, FAA Tower and Base Building, Bloomington-Normal Airport, Bloomington, Illinois.

NPA: Occupational Development Center, Inc., Bloomington, Illinois.

Contract Activity: Federal Aviation Administration, Des Plaines, Illinois.

Service Type/Location: Janitorial/Custodial, Naval & Marine Corps Reserve Center, Billings, Montana.

NPA: Community Option Resource Enterprises, Inc., Billings, Montana.

Contract Activity: Naval Facilities Engineering Command, Everett, Washington.

Service Type/Location: Janitorial/Custodial, NEX Norfolk Distribution Center, NEXCOM Corporate Accounting (CAC), NEX Norfolk Overseas Distribution, NEX Norfolk Ship Store, Norfolk, Virginia; NEXCOM Uniform Support Center, Bldg 1545, Chesapeake, Virginia.

NPA: Community Alternatives, Incorporated, Virginia Beach, Virginia.

Contract Activity: Navy Exchange Service Command (NEXCOM), Virginia Beach, Virginia.

Service Type/Location: Janitorial/Custodial, U.S. Customs Service, Seattle, Washington.

NPA: Northwest Center for the Retarded, Seattle, Washington.

Contract Activity: U.S. Customs Service, Indianapolis, Indiana.

Service Type/Location: Janitorial/Custodial, U.S. Marine Corps Reserve Center, Johnstown, Pennsylvania.

NPA: Goodwill Industries of the Conemaugh Valley, Inc., Johnstown, Pennsylvania.

Contract Activity: 99th Regional Support Command, Coraopolis, Pennsylvania.

This action does not affect current contracts awarded prior to the effective date of this addition or options that may be exercised under those contracts.

Sheryl D. Kennerly,
Director, Information Management.

[FR Doc. 03-17597 Filed 7-10-03; 8:45 am]

BILLING CODE 6353-01-P